DEPARTMENT OF THE INTERIOR

National Park Service

[NPS-WASO-NRNHL-DTS#-27315; PPWOCRADI0, PCU00RP14.R50000]

National Register of Historic Places; Notification of Pending Nominations and Related Actions

AGENCY: National Park Service, Interior.

ACTION: Notice.

SUMMARY: The National Park Service is soliciting comments on the significance of properties nominated before February 9, 2019, for listing or related actions in the National Register of Historic Places.

DATES: Comments should be submitted by March 15, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 9, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

FLORIDA

Pinellas County

Cycadia Cemetery, 1105 E Tarpon Ave., Tarpon Springs, SG100003522

IOWA

Polk County

East Des Moines Commercial Historic District, (Iowa's Main Street Commercial Architecture MPS), Roughly bounded by E 4th, Des Moines, E 6th, and E Locust Sts., Des Moines, MP100003523

MASSACHUSETTS

Hampden County

Federal Square Historic District, 1 Federal St., Springfield, SG100003546

MINNESOTA

Ramsey County

White Bear Lake Armory, 2228 4th St., White Bear Lake, SG100003532

OHIO

Cuyahoga County

Roundwood Manor at Daisy Hill Farm, 3450 Roundwood Rd., Hunting Valley, SG100003526

Hamilton County

Wise, Isaac M., Temple-Center, 3771 Reading Rd., Cincinnati, SG100003527

PENNSYLVANIA

Bucks County

Fullam, John and Alice, House, 372 Brownsburg Rd., Wrightstown Township, SG100003519

Northampton County

Edelman Schoolhouse, 165 Longley Rd., Moore Township, SG100003520

TEXAS

Cameron County

Hollowell, Cieta Friedman and Harry W, House, 622 E Saint Charles St., Brownsville, SG100003533

El Paso County

Ray Sherman Place, 4528 Blanco Ave., El Paso, SG100003534

Tays Place, 2114 E Magoffin Ave., EL Paso, SG100003535

Gregg County

McWilliams Building, 208 N Green St., Longview, SG100003536

Hansford County

Hansford County Courthouse, 15 NW Court St., Spearman, SG100003537

Nacogdoches County

Mangham-McIlwain Building, 10001 Appleby Sand Rd., Nacogdoches, SG100003538

Smith County

Tyler Municipal Rose Garden, 420 Rose Park Dr., Tyler, SG100003539

UTAH

Wasatch County

Buehler, John H. and Agnes, House, 806 N River Rd., Midway, SG100003529

Hancock, Levi and Ellen O'Neil, House, 304 East 100 North, Midway, SG100003530

VERMONT

Windsor County

Gilbert's Hill, 1362 Barnard Rd., Woodstock, SG100003524

VIRGINIA

Frederick County

Rock Hill, 199 Gold's Hill Rd., Winchester vicinity, SG100003540

Fredericksburg Independent City, St. George's Episcopal Church, 905 Princess Anne St., Fredericksburg, SG100003541

King George County

White Plains, 15318 James Madison Pkwy., King George vicinity, SG100003542

Loudoun County

James Farm, 15021 Mountain Rd., Purcellville vicinity, SG100003543

Richmond Independent City

Blackwell Historic District, Roughly bounded by Decatur & E 14th Sts., Dinwiddy Ave. & Jefferson Davis Hwy., Richmond, SG100003544

WASHINGTON

King County

Daughters of the American Revolution-Rainier Chapter House, 800 East Roy St., Seattle, SG100003525

WEST VIRGINIA

Brooke County

Market Street Bridge, WV 2 spur, mile post 0.01/Market St., Follansbee vicinity, SG100003517

Fayette County

New Deal Resources in Babcock State Park Historic District, (New Deal Resources in West Virginia State Parks and Forests MPS), 486 Babcock Rd., Clifftop, MP100003518

WISCONSIN

Dane County

Madison Vocational School, 211 N Carroll St., Madison, SG100003545

A request for removal has been made for the following resource:

UTAH

Duchesne County

Simmons Ranch, 8 mi. S of US 40, Fruitland vicinity, OT92000463

Additional documentation has been received for the following resource:

MASSACHUSETTS

Suffolk County

Mount Hope Cemetery, 355 Walk Hill St., Boston, AD09000767

Authority: Section 60.13 of 36 CFR part 60.

Dated: February 13, 2019.
Christopher Hetzel,
Acting Chief, National Register of Historic Places/National Historic Landmarks Program.

[FR Doc. 2019-03490 Filed 2-27-19; 8:45 am]

BILLING CODE 4312-52-P